DEPARTMENT OF HEALTH AND HUMAN SERVICES

National Institutes of Health

Announcement of Requirements and Registration for Using Public Data for Cancer Prevention and Control: From Innovation to Impact Developer Challenge

AGENCY: National Cancer Institute, National Institutes of Health, HHS.

ACTION: Notice.

SUMMARY: The National Cancer Institute (NCI), Division of Cancer Control and Population Sciences (DCCPS), is announcing the launch of the Using Public Data for Cancer Prevention and Control: From Innovation to Impact Developer Challenge. This Challenge is sponsored by the NCI and is presented as part of the Office of the National Coordinator for Health Information Technology's Investing in Innovation (i2) program. This contest addresses the NCI DCCPS mission to disseminate information towards the prevention, early detection, diagnosis, and treatment and control of cancer. Specifically, the contest supports the detection, diagnosis, prevention, and treatment of cancer through the demonstration of new methods for the dissemination of information to the general public concerning the prevention, early detection, diagnosis, and treatment and control of cancer.

DATES: Important dates concerning the two phases of the Challenge include the following:

Phase I

Submission Period Begins: 12:01 a.m., EDT, July 20, 2011.

Submission Period for Initial Entries Ends: 11:59 p.m., EDT, August 26, 2011.

Judging Process for Finalists Begins: 12:01 a.m., EDT, August 27, 2011.

Judging Process for Finalists Ends: 11:59 p.m., EDT, September 1, 2011.

Finalist(s) notified: September 2, 2011.

Finalist Demos at Health 2.0 Conference: September 25-27, 2011.

Phase II

Final Submission Period Begins: 12:01 a.m., EDT, October 3, 2011.

Final Submission Period Ends: 11:59 p.m., EST, November 18, 2011.

Final Judging Process Begins: 12:01 a.m., EST, November 19, 2011.

Final Judging Process Ends: 11:59 p.m., EST, November 25, 2011.

Winner(s) notified: November 30, 2011.

Award Presentation at Hawaii International Conference on System Sciences (HICSS) Symposium: January 4, 2012.

FOR FURTHER INFORMATION CONTACT: Abdul R. Shaikh, PhD, MHSc, Program Director, Health Communication and Informatics Research Branch, BRP, DCCPS, National Cancer Institute, Phone: 301-594-6690.

SUPPLEMENTARY INFORMATION:

Subject of Challenge Competition

Entrants are asked to develop software applications (apps) that utilize the wide array of health-related data made available by the NCI DCCPS and other Federal agencies for innovative consumer health apps; these apps should potentially integrate with existing technology platforms and address targets comprising DCCPS priority areas on the continuum of cancer prevention and control: http://cancercontrol.cancer.gov/od/index.html. Entrants are required to address challenges faced by consumers, clinicians, or researchers such as behavior risk reduction for prevention/survivorship (e.g., nutrition, physical activity, smoking cessation), early detection and screening, informed decision-making, and adherence to treatment regimens.

Eligibility Rules for Participating in the Competition

To be eligible to win a prize under this challenge, an individual or entity shall have complied with all the requirements under this section.

An individual or entity shall not be deemed ineligible because the individual or entity used Federal facilities or consulted with Federal employees during a competition if the facilities and employees are made available to all individuals and entities participating in the competition on an equitable basis.

This Challenge is open to any Contestant, defined as (1) an individual or team of U.S. citizens or permanent residents of the United States who are 13 years of age and over (with the permission of a parent/guardian if under 18 years of age), or (2) an entity incorporated in and maintaining a primary place of business in the United States. Foreign citizens can participate as employees of an entity that is properly incorporated in the U.S. and maintains a primary place of business in the U.S. Contestants may submit more than one entry, e.g., if they have developed more than one app. Eligibility for Phase II is conditional upon being selected as a Phase I finalist. Eligibility for a prize award is contingent upon fulfilling all requirements set forth herein. NCI will not select as a Finalist or Winner an individual or entity that is currently on the Excluded Parties List (https://www.epls.gov/).

A Federal entity or Federal employee acting within the scope of his or her employment is not eligible to participate. Federal employees seeking to participate in this contest outside the scope of their employment should consult their ethics official prior to developing their submission. Employees of the NCI and the judges or any other company or individual involved with the design, production, execution, or distribution of the Challenge and their immediate family (spouse, parents and step-parents, siblings and step-siblings, and children and step-children) and household members (people who share the same residence at least three (3) months out of the year) are not eligible to participate.

Regarding Liability and Indemnification, by participating in this competition, Contestants agree to assume any and all risks and waive claims against the Federal Government and its related entities, except in the case of willful misconduct, for any injury, death, damage, or loss of property, revenue, or profits, whether direct, indirect, or consequential, arising from participation in this prize contest, whether the injury, death, damage, or loss arises through negligence or otherwise. By participating in this competition, Contestants agree to indemnify the Federal Government against third party claims for damages arising from or related to competition activities.

Regarding Insurance, based on the subject matter of the contest, the type of work that it will possibly require, as well as an analysis of the likelihood of any claims for death, bodily injury, or property damage, or loss potentially resulting from contest participation, Contestants are not required to obtain liability insurance or demonstrate financial responsibility in order to participate in this contest.

Regarding Copyright/Intellectual Property—Original Work: Upon submission, each Contestant warrants that he or she is the sole author and owner of the Submission, that the Submission is wholly original with the Contestant (or is an improved version of an existing app that the Contestant has sufficient rights to use—including the substantial improvement of existing open-source apps) and that it does not infringe any copyright or any other rights of any third party of which Contestant is aware. Each Contestant also warrants that the app is free of malware. In addition to complying with appropriate policies, procedures, and protections for data that ensures all privacy requirements, intellectual property considerations, and institutional/sponsor restrictions are met, use of publicly-available data obtained from NCI and other Federal partners should not allow the identification of an individual human subject from whom NCI and other Federal partners obtained such data.

Submission Rights: By participating in this contest, each Contestant grants to the NCI an irrevocable, paid-up, royalty-free nonexclusive worldwide license to post, link to, share, and display publicly the app on the Web, for the purpose of the Challenge, during the duration of the Challenge and for a period of one year following announcement of the winners. All Contestants will retain all other intellectual property rights in their Submissions.

Regarding Registration Process for Participants, interested persons should read the Official Rules (also posted on Challenge.gov) and register at the Health 2.0 Developer Challenge portal: http://www.health2challenge.org/. Registration is free and can be completed anytime during the Phase I App Submission Period, July 20 to August 26, 2011.

Amount of the Prize

At the culmination of Phase I, up to four NCI-selected finalists will each be awarded a $10,000 prize in conjunction with their participation in a special session at the Health 2.0 Fall Conference in San Francisco, California, in September 2011 to engage with leaders in government, venture capital, and technology for support in translating their innovations into commercially successful apps with potential public health impact. Phase I finalists will then receive additional time to upgrade and resubmit their apps for evaluation.

From the Slate of Phase I finalists, Phase II will lead to the selection of up to two winners who will each receive a $20,000 prize to present their apps in an award ceremony during a special symposium at the HICSS conference in Maui, Hawaii, on January 4, 2012. The HICSS symposium will focus on linking application developers with experts in the health science, commercial, and venture capital arenas for tailored advice on commercialization, integration with existing platforms, and public health impact. Travel expenses to San Francisco and Hawaii will not be separately reimbursed but are intended to be paid for from the Phase I and II awards, respectively.

NCI will also feature information about all finalist apps on an NCI Web site. This information will include a link to the award winning apps. All award recipients (in Phases I and II) will be required to make the app available on a publicly-accessible Web site until January 12, 2013.

Basis Upon Which Winner Will Be Selected

Phase I and Phase II entries will be judged by an expert panel composed of NCI program staff and external members of the health information technology community in compliance with the requirements of the America COMPETES Act. Judges may be named after commencement of the challenge. The judging panel will make selections based upon the following criteria:

1. Use of cancer-related data: Each entry must use at least one dataset or data service relevant to cancer prevention and control, as described in the section on judging criterion #2. When appropriate to the app, the use of additional datasets from other sources is also encouraged.

2. Impact on the continuum of cancer prevention and control: Each entry will be rated on the strength of its potential to help consumers, clinicians, and/or researchers address challenges related to the continuum of cancer prevention and control. Suggested targets comprise behavior risk reduction for prevention/survivorship (e.g., nutrition, physical activity, smoking cessation), early detection and screening, informed decision-making, and adherence to treatment regimens. Examples include, but are not limited to, apps that provide new ways of visualizing and communicating complex health information for risk communication; consumer decision support incorporating multiple sources of data to reduce the burden of cancer and enhance outcomes following diagnosis and treatment; and decision aids for cancer screening (e.g., prostate-specific antigen (PSA), breast, and cervical cancer screening tests). A detailed framework describing the continuum and related resources is available at the NCI DCCPS Web site: http://cancercontrol.cancer.gov/od/continuum.html. Also see the following:

a. Zapka JG, Taplin SH, Solberg LI, Manos MM. A framework for improving the quality of cancer care: the case of breast and cervical cancer screening. Cancer Epidemiol Biomarkers Prev. 2003 Jan; 12(1):4-13).

b. Taplin SH, Clauser S, Rodgers AB, Breslau E, Rayson D. Interfaces across the cancer continuum offer opportunities to improve the process of care. J Natl Cancer Inst Monogr 2010;2010(40):104-10.

c. Hesse BW, Hanna C, Massett HA, Hesse NK. Outside the box: will information technology be a viable intervention to improve the quality of cancer care? J Natl Cancer Inst Monogr 2010;2010(40):81-9.

3. Integration: Each entry will be rated on its potential for, or actual integration with, existing electronic health record (EHR; recommended standards can be found at http://healthit.hhs.gov/portal/server.pt/community/standards_and_certification/1153/home/15755), personal health record (PHR), mobile, Web, and/or other emerging health information technology platforms.

4. Innovation: Each entry will be rated for the degree of new thinking it brings to applications targeting the continuum of cancer prevention and control, and the creativity shown in designing for impact.

5. Usability: Each entry will be rated on its user-friendliness and interactive capabilities. Preference will be given to applications that are easily accessible to a range of users, including those with disabilities.

Submissions should include a title, textual description of the submission, a link to the app, and a list of data sources and/or datasets used. Pictures and video are optional but helpful.

Additional Information: NCI, part of the National Institutes of Health (NIH), was established by Congress in 1937 and is the leading Federal agency and the world's largest organization solely dedicated to cancer-related research (including health communication and informatics), training, and dissemination of information. For more information, see http://www.cancer.gov.

Winners and finalists who meet the requisite qualifications, along with all interested and qualified parties, are also encouraged to apply for relevant funding opportunities to further develop and commercialize their innovative apps for cancer prevention and control, e.g., in NCI's Small Business Innovation Research (SBIR) program: http://sbir.cancer.gov/.

In order for an entry to win this Challenge, it must meet the following requirements:

1. General—Contestants must provide continuous access to the app, a detailed description of the app, instructions on how to install and operate the app, and system requirements required to run the app (collectively, “Submission”).

2. Acceptable platforms—The app must be designed for the Web, a personal computer, a mobile handheld device, console, or any platform broadly accessible on the open Internet.

3. Data used—The app must utilize cancer-related data (as described in the section on judging criterion #2) from publicly-available data sets, though they need not include all data fields available in a particular resource. Data from Federal sources may be used alone or in combination with other available data resources at the discretion of the entrant. Related data and resources can be found, for example, at the following: http://healthdata.gov; Health Indicators Warehouse http://www.healthindicators.gov/; American Time Use Survey http://riskfactor.cancer.gov/studies/atus.html; Behavioral Risk Factor Surveillance System (BRFSS) http://www.cdc.gov/brfss/about.htm; California Health Interview Survey (CHIS) public use data files http://appliedresearch.cancer.gov/surveys/chis/module.html; Classification of Laws Associated with School Students (C.L.A.S.S.) http://class.cancer.gov/About.aspx; Health Information National Trends Survey http://hints.cancer.gov; ImpactTeen Tobacco Database http://www.impacteen.org/tobaccodata.htm; National Health and Nutrition Examination Survey (NHANES) http://riskfactor.cancer.gov/studies/nhanes/; National Health Interview Survey (NHIS)—Cancer Control Topical Module http://appliedresearch.cancer.gov/surveys/nhis/; Surveillance, Epidemiology, and End Results (SEER) Program http://seer.cancer.gov; Tobacco Use Supplement to the Current Population Survey (TUS-CPS) http://riskfactor.cancer.gov/studies/tus-cps/.

4. Accessibility—The app must, to the extent practicable, be accessible to a wide range of users, including users with disabilities. Apps should also aim to meet objectives for Federal compliance guidelines for information technology as addressed by Section 508 of the Rehabilitation Act of 1973: http://www.section508/gov.

5. Deadlines and Modifications—The Phase I Submission must be available for evaluation and judging by 11:59 p.m., EDT, on August 26, 2011. The Phase II Submission must be available for evaluation and judging by 11:59 p.m., EST, November 18, 2011. These submissions must remain unchanged and unaltered for the Phase I and, when applicable, the Phase II judging periods.

6. Intellectual Property—The Submission must not infringe any copyright or any other rights of any third party.

7. No NCI logo or endorsement—The app must not use NCI's logo or official seal in the Submission and must not claim NCI endorsement. The award of a prize in this Challenge does not constitute an endorsement of a specific product by the NCI or the Federal Government.

8. Functionality/Accuracy—A Submission may be disqualified if the software application fails to function as expressed in the description provided by the user or if the software application provides inaccurate or incomplete information.

9. Security—Submissions must be free of malware. The Contestant agrees that NCI may conduct testing on the app to determine whether malware or other security threats may be present. NCI may disqualify the app if, in NCI's judgment, the app may damage the Government's or others' equipment or operating environment.

10. Debarment and Suspension Screening. By submitting an entry, Contestants consent to debarment and compliance screening.

Submissions satisfying these criteria will be posted on the Health 2.0 Developer Challenge portal (http://www.health2challenge.org/) on a rolling basis.

Compliance With Rules and Contacting Challenge Winners

Finalists and the Challenge Winners must comply with all terms and conditions of these Official Rules, and winning is contingent upon fulfilling all requirements contained herein. The Phase I finalists will be notified by e-mail, telephone, or mail after the date of the judging. Awards may be subject to Federal income taxes, and the Department of Health and Human Services will comply with the Internal Revenue Service withholding and reporting requirements, where applicable.

Privacy

If Contestants choose to provide the NCI with personal information by registering or filling out the submission form through the Challenge Web site (http://www.health2challenge.org/), that information is used to respond to Contestants in matters regarding their submission, announcements of entrants, finalists, and winners of the Challenge, related to promotion of the Challenge—unless Contestants choose to receive updates or notifications about other competitions from the NCI on an opt-in basis. Information is not collected for commercial marketing. Winners are permitted to cite that they won this contest.

General Conditions

The NCI reserves the right to cancel, suspend, and/or modify the Competition, or any part of it, for any reason, at NCI's sole discretion.

Participation in this Challenge constitutes a contestant's full and unconditional agreement to abide by the Challenge's Official Rules found at http://www.Challenge.gov and http://www.health2challenge.org/.

Authority: 15 U.S.C. 3719.

Dated: July 18, 2011.
Francis S. Collins,
Director, National Institutes of Health.

[FR Doc. 2011-18559 Filed 7-21-11; 8:45 am]

BILLING CODE 4140-01-P